DEPARTMENT OF ENERGY

Federal Energy Regulatory Commission

[Project No. 1864-036]

Upper Peninsula Power Company; Notice of Application for Temporary Amendment of License and Soliciting Comments, Motions To Intervene, and Protests

February 3, 2005.

Take notice that the following application has been filed with the Commission and is available for public inspection.

a. Type of Application: Request to temporarily amend the reservoir elevation requirements of article 401 and 402 of the project license.

b. Project Number: P-1864-036.

c. Date Filed: January 6, 2005.

d. Applicant: Upper Peninsula Power Company.

e. Name of Project: Bond Falls Hydroelectric Project No. 1864.

f. Location: The project is located on the Ontonagon River in Ontonagon and Gogebic Counties, Michigan and Vilas County, Wisconsin.

g. Filed Pursuant to: Federal Power Act, 16 USC 791(a) 825(r) and 799 and 801.

h. Applicant Contacts: Terry P. Jensky, 700 N. Adams Street, P.O. Box 19001, Green Bay, WI 54307-9001. Phone: (920) 433-2277.

i. FERC Contact: Any questions on this notice should be addressed to Mr. Robert Fletcher at (202) 502-8901, or e-mail address: robert.fletcher@ferc.gov.

j. Deadline for filing comments and or motions: March 3, 2005.

k. Description of Request: The Bond Falls Project Implementation Team, which consists of the licensee, Michigan Department of Natural Resources, U.S. Fish and Wildlife Service, Keweenaw Bay Indian Community, Wisconsin Department of Natural Resources, and the U.S. Forest Service agreed to temporary modifications to the existing license requirements for articles 401 and 402 during the 2005 season. The licensee requests the following temporary modification to the reservoir elevation requirements in article 401: Change the June-September End of the Month Target levels to 1295.9 feet mean sea level (msl) for the month of June (0.2 feet higher than current requirement); 1295.7 feet msl for the month of July (same as current requirement); and 1295.5 feet msl for the period August-September (0.2 feet lower than current requirement). For article 402, the licensee proposes a change in the minimum flow trigger elevations to match the proposed target elevations: 1295.9 feet msl for the month of June (1295.4 in current license); 1295.7 feet msl for the month of July; and 1295.5 feet msl for August 1 through September 14. When the Bergland Development elevation is greater than the trigger elevation during the period June through September 14, the minimum flow requirement for the Bergland Dam is 50 cubic feet per second (cfs). When the Bergland Development is at or below the trigger elevations during the period June through September 14, the minimum flow requirement for Bergland Dam is 30 cfs. After the 2005 season, the licensee and other members of the Implementation Team will make a decision as to whether additional changes are needed for the following year.

l. Locations of the Application: A copy of the application is available for inspection and reproduction at the Commission's Public Reference Room, located at 888 First Street, NE., Room 2A, Washington, DC 20426, or by calling (202) 502-8371. This filing may also be viewed on the Commission's Web site at http://www.ferc.gov using the “eLibrary” link. Enter the docket number excluding the last three digits in the docket number field to access the document. You may also register online at http://www.ferc.gov/docs-filing/esubscription.asp to be notified via email of new filings and issuances related to this or other pending projects. For assistance, call 1-866-208-3676 or e-mail FERCOnlineSupport@ferc.gov, for TTY, call (202) 502-8659. A copy is also available for inspection and reproduction at the address in item (h) above.

m. Individuals desiring to be included on the Commission's mailing list should so indicate by writing to the Secretary of the Commission.

n. Comments, Protests, or Motions To Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents—Any filings must bear in all capital letters the title “COMMENTS”, “RECOMMENDATIONS FOR TERMS AND CONDITIONS”, “PROTEST”, OR “MOTION TO INTERVENE”, as applicable, and the Project Number of the particular application to which the filing refers (p-1864-036). All documents (original and eight copies) should be filed with: Magalie R. Salas, Secretary, Federal Energy Regulatory Commission, 888 First Street, NE., Washington DC 20426. A copy of any motion to intervene must also be served upon each representative of the Applicant specified in the particular application.

p. Agency Comments—Federal, State, and local agencies are invited to file comments on the described application. A copy of the application may be obtained by agencies directly from the Applicant. If an agency does not file comments within the time specified for filing comments, it will be presumed to have no comments. One copy of an agency's comments must also be sent to the Applicant's representatives.

q. Comments, protests and interventions may be filed electronically via the Internet in lieu of paper. See, 18 CFR 385.2001(a)(1)(iii) and the instructions on the Commission's Web site at http://www.ferc.gov under the “e-Filing” link.

Magalie R. Salas,
Secretary.

[FR Doc. E5-549 Filed 2-9-05; 8:45 am]

BILLING CODE 6717-01-P